DEPARTMENT OF ENERGY

Federal Energy Regulatory Commission

Sunshine Act Meeting

May 23, 2001.

The following notice of meeting is published pursuant to section 3(A) of the Government in the Sunshine Act (Pub. L. No. 94-409), 5 U.S.C. 552B:

AGENCY HOLDING MEETING: Federal Energy Regulatory Commission.

DATE AND TIME: May 30, 2001, 10 A.M.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, Telephone (202) 208-0400, for a recording listing items, stricken from or added to the meeting, call (202) 208-1627.

This is a list of matters to be considered by the Commission. It does not include a listing of all papers relevant to the items on the agenda; however, all public documents may be examined in the Reference and Information Center.

767th—Meeting May 30, 2001, Regular Meeting 10 a.m.

Consent Agenda—Markets, Tariffs and Rates—Electric

CAE-1.

DOCKET# ER01-1695, 000, CAMBRIDGE ELECTRIC LIGHT COMPANY

OTHER#S ER01-1705, 000, BOSTON EDISON COMPANY

ER01-1782, 000, COMMONWEALTH ELECTRIC COMPANY

CAE-2.

DOCKET# ER01-1763, 000, DUKE ELECTRIC TRANSMISSION

CAE-3.

DOCKET# ER01-1737, 000, TRIGEN-SYRACUSE ENERGY CORPORATION

CAE-4.

DOCKET# ER01-1720, 000, ENTERGY SERVICES, INC.

CAE-5.

DOCKET# ER01-1965, 000, COMMONWEALTH EDISON COMPANY

CAE-6.

DOCKET# ER01-1698, 000, SOUTHERN COMPANY SERVICES, INC.

OTHER#S ER01-1698, 001, SOUTHERN COMPANY SERVICES, INC.

CAE-7.

DOCKET# ER01-1577, 000, AMERICAN TRANSMISSION COMPANY LLC

OTHER#S ER01-677, 000, AMERICAN TRANSMISSION COMPANY LLC

ER01-1577, 001, AMERICAN TRANSMISSION COMPANY LLC

CAE-8.

DOCKET# ER01-1850, 000, DAYTON POWER & LIGHT COMPANY

CAE-9.

DOCKET# ER01-1589, 000, NEVADA POWER COMPANY

CAE-10.

DOCKET# RT01-2, 000, PJM INTERCONNECTION, L.L.C., ALLEGHENY ELECTRIC COOPERATIVE, INC., ATLANTIC CITY ELECTRIC COMPANY, BALTIMORE GAS & ELECTRIC COMPANY, DELMARVA POWER & LIGHT COMPANY, JERSEY CENTRAL POWER & LIGHT COMPANY, METROPOLITAN EDISON COMPANY, PEPCO ENERGY COMPANY, PENNSYLVANIA ELECTRIC COMPANY, PPL ELECTRIC UTILITIES CORPORATION, POTOMAC ELECTRIC POWER COMPANY, PUBLIC SERVICE ELECTRIC & GAS COMPANY AND UGI UTILITIES INC.

CAE-11.

DOCKET# ER01-1663, 000, SIERRA SOUTHWEST COOPERATIVE SERVICES, INC.

OTHER#S NJ01-3, 000, SOUTHWEST TRANSMISSION COOPERATIVE, INC.

NJ01-3, 001, SOUTHWEST TRANSMISSION COOPERATIVE, INC.

EL01-62, 000, SIERRA SOUTHWEST COOPERATIVE, SERVICES, INC.

EL01-62, 001, SIERRA SOUTHWEST COOPERATIVE, SERVICES, INC.

ER01-1663, 001, SIERRA SOUTHWEST COOPERATIVE SERVICES, INC.

CAE-12.

DOCKET# RT01-98, 000, PJM INTERCONNECTION, L.L.C. AND ALLEGHENY POWER

OTHER#S RT01-10, 000, ALLEGHENY POWER

CAE-13.

DOCKET# RT01-86, 000, BANGOR HYDRO-ELECTRIC COMPANY, CENTRAL MAINE POWER COMPANY, NATIONAL GRID USA, NORTHEAST UTILITIES SERVICE COMPANY, THE UNITED ILLUMINATING COMPANY, VERMONT ELECTRIC POWER COMPANY AND ISO NEW ENGLAND INC.

OTHER#S RT01-94, 000, NSTAR SERVICES COMPANY

RT01-95, 000, NEW YORK INDEPENDENT SYSTEM OPERATOR, INC., CENTRAL HUDSON GAS & ELECTRIC COMPANY, CONSOLIDATED EDISON COMPANY OF NEW YORK, INC., NIAGARA MOHAWK POWER CORPORATION, ORANGE & ROCKLAND UTILITIES, INC. AND ROCHESTER GAS AND ELECTRIC CORPORATION

CAE-14.

DOCKET# ER00-3668, 001, COMMONWEALTH EDISON COMPANY

CAE-15.

DOCKET# EC00-27, 003, UTILICORP UNITED INC. AND ST JOSEPH LIGHT & POWER COMPANY

CAE-16.

DOCKET# ER97-1523 062, CENTRAL HUDSON GAS & ELECTRIC CORPORATION, CONSOLIDATED EDISON COMPANY OF NEW YORK, INC., LONG ISLAND LIGHTING COMPANY, NEW YORK STATE ELECTRIC AND GAS CORPORATION, NIAGARA MOHAWK POWER CORPORATION, ORANGE AND ROCKLAND UTILITIES, INC., ROCHESTER GAS AND ELECTRIC CORPORATION AND NEW YORK POWER POOL

OTHER#S OA97-470, 057, CENTRAL HUDSON GAS & ELECTRIC CORPORATION, CONSOLIDATED EDISON COMPANY OF NEW YORK, INC., LONG ISLAND LIGHTING COMPANY, NEW YORK STATE ELECTRIC AND GAS CORPORATION, NIAGARA MOHAWK POWER CORPORATION, ORANGE AND ROCKLAND UTILITIES, INC., ROCHESTER GAS AND ELECTRIC CORPORATION AND NEW YORK POWER POOL

ER97-4234, 055, CENTRAL HUDSON GAS & ELECTRIC CORPORATION, CONSOLIDATED EDISON COMPANY OF NEW YORK, INC., LONG ISLAND LIGHTING COMPANY, NEW YORK STATE ELECTRIC AND GAS CORPORATION, NIAGARA MOHAWK POWER CORPORATION, ORANGE AND ROCKLAND UTILITIES, INC., ROCHESTER GAS AND ELECTRIC CORPORATION AND NEW YORK POWER POOL

CAE-17.

OMITTED

CAE-18.

DOCKET# EL99-50, 001, FRESNO IRRIGATION DISTRICT

OTHER#S ER99-3713, 001, PACIFIC GAS AND ELECTRIC COMPANY

CAE-19.

DOCKET# ER99-4193, 001, NEW ENGLAND POWER POOL

CAE-20.

DOCKET# EC99-98, 001, NIAGARA MOHAWK POWER CORPORATION, NEW YORK STATE ELECTRIC & GAS CORPORATION AND AMERGEN ENERGY COMPANY, LLC

OTHER#S ER99-3804, 001, NIAGARA MOHAWK POWER CORPORATION, NEW YORK STATE ELECTRIC & GAS CORPORATION AND AMERGEN ENERGY COMPANY, LLC

CAE-21.

DOCKET# ER00-2268, 002, PINNACLE WEST CAPITAL CORPORATION, ARIZONA PUBLIC SERVICE COMPANY AND APS ENERGY SERVICES, INC.

CAE-22.

OMITTED

CAE-23.

DOCKET# ER00-3312, 001, PINNACLE WEST ENERGY CORPORATION

CAE-24. DOCKET# ER00-3152, 002, CMS MARKETING, SERVICES AND TRADING COMPANY

CAE-25.

DOCKET# ER00-3251, 003, EXELON GENERATION COMPANY, L.L.C.

OTHER#S ER97-3954, 014, UNICOM POWER MARKETING, INC.

ER98-380, 014, HORIZON ENERGY COMPANY

ER98-1734, 004, COMMONWEALTH EDISON COMPANY

ER99-754, 006, AMERGEN ENERGY COMPANY, L.L.C.

ER99-1872, 004, PECO ENERGY COMPANY

ER00-1030, 003, AMERGEN VERMONT, L.L.C.

ER00-2429, 004, UNICOM ENERGY, INC.

CAE-26.

DOCKET# ER01-180, 002, NEW YORK INDEPENDENT SYSTEM OPERATOR, INC.

CAE-27.

DOCKET# ER00-2211, 001, GREAT BAY POWER CORPORATION

CAE-28.

DOCKET# ER00-3513, 002, PJM INTERCONNECTION, L.L.C.

OTHER#S EL99-86, 001, NEW YORK STATE ELECTRIC & GAS CORPORATION

EL00-113, 001, DUNKIRK POWER, LLC, HUNTLEY POWER, LLC AND OSWEGO HARBOR, LLC

CAE-29.

DOCKET# RT01-67, 002, GRIDFLORIDA LLC, FLORIDA POWER & LIGHT COMPANY, FLORIDA POWER CORPORATION AND TAMPA ELECTRIC COMPANY

CAE-30.

DOCKET# OA97-140, 003, SEMINOLE ELECTRIC COOPERATIVE, INC.

CAE-31. DOCKET# EL01-41, 000, STRATEGIC ENERGY L.L.C. V. CALIFORNIA INDEPENDENT SYSTEM OPERATOR CORPORATION

CAE-32.

DOCKET# EL01-63, 000, PJM INTERCONNECTION, L.L.C.

CAE-33.

DOCKET# EG01-43, 000, PPL MONTOUR, LLC

CAE-34.

OMITTED

CAE-35.

DOCKET# EL98-46, 003, LAGUNA IRRIGATION DISTRICT

OTHER#S ER99-3145, 001, PACIFIC GAS AND ELECTRIC COMPANY

CAE-36.

DOCKET# ER01-1671, 000, PJM INTERCONNECTION, L.L.C.

CAE-37. DOCKET# RT01-74, 001, CAROLINA POWER & LIGHT COMPANY, DUKE ENERGY CORPORATION, SOUTH CAROLINA ELECTRIC & GAS COMPANY AND GRIDSOUTH TRANSCO, LLC

CAE-38.

DOCKET# EL97-19, 000, VILLAGE OF BELMONT, CITY OF JUNEAU, CITY OF PLYMOUTH, CITY OF REEDSBURG, CITY OF OF SHEBOYGAN FALLS, CITY OF WISCONSIN RAPIDS, WISCONSIN, ADAMS-COLUMBIA ELECTRIC COOPERATIVE, CENTRAL WISCONSIN ELECTRIC COOPERATIVE AND THE ROCK COUNTY ELECTRIC COOPERATIVE V. WISCONSIN POWER & LIGHT COMPANY

OTHER#S SC97-3, 000, VILLAGE OF BELMONT, CITY OF JUNEAU, CITY PLYMOUTH, CITY OF REEDSBURG, CITY OF OF SHEBOYGAN FALLS, CITY OF WISCONSIN RAPIDS, WISCONSIN, ADAMS-COLUMBIA ELECTRIC COOPERATIVE, CENTRAL WISCONSIN ELECTRIC COOPERATIVE AND THE ROCK COUNTY ELECTRIC COOPERATIVE V. WISCONSIN POWER & LIGHT COMPANY

Consent Agenda—Markets, Tariffs and Rates—Gas

CAG-1.

OMITTED

CAG-2.

DOCKET# RP96-389, 023, COLUMBIA GULF TRANSMISSION COMPANY

CAG-3.

DOCKET# RP01-405, 000, NATURAL GAS PIPELINE COMPANY OF AMERICA

CAG-4. DOCKET# RP01-388, 000, NORTHERN BORDER PIPELINE COMPANY

CAG-5.

DOCKET# RP99-518, 021, PG&E GAS TRANSMISSION, NORTHWEST CORPORATION

OTHER#S RP99-518, 019, PG&E GAS TRANSMISSION, NORTHWEST CORPORATION

RP99-518, 020, PG&E GAS TRANSMISSION, NORTHWEST CORPORATION

CAG-6.

DOCKET# RP01-394, 000, TEXAS EASTERN TRANSMISSION CORPORATION

CAG-7.

DOCKET# RP01-397, 000, GREAT LAKES GAS TRANSMISSION LIMITED PARTNERSHIP

CAG-8.

DOCKET# RP01-407, 000, ALGONQUIN GAS TRANSMISSION COMPANY

CAG-9.

DOCKET# RP01-410, 000, ALGONQUIN LNG, INC.

CAG-10.

DOCKET# RP01-401, 000 COLUMBIA GAS TRANSMISSION CORPORATION

OTHER#S CP01-260, 000, COLUMBIA GAS TRANSMISSION CORPORATION

CAG-11.

DOCKET# RP01-402, 000, DESTIN PIPELINE COMPANY, L.L.C.

CAG-12.

DOCKET# RP01-408, 000, EAST TENNESSEE NATURAL GAS COMPANY

CAG-13.

DOCKET# RP01-409, 000, MARITIMES & NORTHEAST PIPELINE, L.L.C.

CAG-14.

DOCKET# RP01-406, 000, NATURAL GAS PIPELINE COMPANY OF AMERICA

CAG-15.

DOCKET# RP01-400, 000, PG&E GAS TRANSMISSION, NORTHWEST CORPORATION

CAG-16.

DOCKET# RP01-404, 000, OVERTHRUST PIPELINE COMPANY

CAG-17.

DOCKET# RP01-396, 000, NORTHERN NATURAL GAS COMPANY

CAG-18.

DOCKET# RP01-395, 000, NORTHERN NATURAL GAS COMPANY

CAG-19.

DOCKET# PR01-1, 000, ASSOCIATED NATURAL GAS COMPANY

CAG-20.

DOCKET# RP00-325, 000, COLORADO INTERSTATE GAS COMPANY

OTHER#S RP01-38, 000, COLORADO INTERSTATE GAS COMPANY

CAG-21.

DOCKET# RP00-344, 000, DOMINION TRANSMISSION, INC.

OTHER#S RP00-601, 000, DOMINION TRANSMISSION, INC.

CAG-22.

DOCKET# RP00-460, 000, TOTAL PEAKING SERVICES, L.L.C.

CAG-23.

DOCKET# RP01-242, 001, SOUTHERN NATURAL GAS COMPANY

CAG-24.

DOCKET# CP95-168, 006, SEA ROBIN PIPELINE COMPANY

CAG-25.

DOCKET# RP00-533, 002, ALGONQUIN GAS TRANSMISSION COMPANY

OTHER#S RP00-535, 002, TEXAS EASTERN TRANSMISSION, LP

CAG-26.

OMITTED

CAG-27.

DOCKET# TM99-6-29, 002, TRANSCONTINENTAL GAS PIPE LINE CORPORATION

CAG-28.

DOCKET# TM00-1-25, 006, MISSISSIPPI RIVER TRANSMISSION CORPORATION

CAG-29.

DOCKET# OR99-16, 001 COLONIAL PIPELINE COMPANY

CAG-30.

OMITTED

CAG-31.

DOCKET# RP92-137, 050, TRANSCONTINENTAL GAS PIPE LINE CORPORATION

OTHER#S RP93-136, 000, TRANSCONTINENTAL GAS PIPE LINE CORPORATION

CAG-32.

DOCKET# RP99-159, 000, SOUTHERN NATURAL GAS COMPANY

OTHER#S RP99-159, 001, SOUTHERN NATURAL GAS COMPANY

Consent Agenda—Energy Projects—Hydro

CAH-1.

DOCKET# P-2150, 021, PUGET SOUND ENERGY, INC.

CAH-2.

DOCKET# UL96-16, 007, CHIPPEWA AND FLAMBEAU IMPROVEMENT COMPANY

OTHER#S UL96-17, 007, CHIPPEWA AND FLAMBEAU IMPROVEMENT COMPANY

CAH-3.

OMITTED

CAH-4.

DOCKET# P-1894, 193, SOUTH CAROLINA ELECTRIC AND GAS COMPANY

CAH-5.

DOCKET# P-2485, 015, NORTHEAST GENERATION COMPANY

CAH-6.

DOCKET# P-5, 062, PP&L MONTANA, LLC

CAH-7.

DOCKET# P-2114, 091, PUBLIC UTILITY DISTRICT NO. 2 OF GRANT COUNTY, WASHINGTON

Consent Agenda—Energy Projects—Certificates

CAC-1.

DOCKET# CP00-232, 000, IROQUOIS GAS TRANSMISSION SYSTEM, L.P.

OTHER#S CP00-232, 001, IROQUOIS GAS TRANSMISSION SYSTEM, L.P.

CAC-2.

DOCKET# CP01-58, 000, DOMINION TRANSMISSION, INC.

CAC-3.

DOCKET# CP01-65, 000, EASTERN SHORE NATURAL GAS COMPANY

CAC-4.

DOCKET# CP01-66, 000, EGAN HUB PARTNERS, L. P.

CAC-5.

DOCKET# CP01-46, 000, NATIONAL FUEL GAS SUPPLY CORPORATION

CAC-6.

DOCKET# CP01-145, 000, OTAY MESA GENERATING COMPANY, LLC

CAC-7.

DOCKET# CP97-83, 000, TRUNKLINE GAS COMPANY

OTHER#S CP97-84, 000, TRUNKLINE FIELD SERVICES, INC.

CAC-8.

DOCKET# CP00-435, 000, NATURAL GAS PIPELINE COMPANY OF AMERICA

CAC-9.

DOCKET# CP98-233, 001, TRANSWESTERN PIPELINE COMPANY

CAC-10.

DOCKET# CP95-516, 001, ENRON GULF COAST GATHERING LIMITED PARTNERSHIP

OTHER#S CP95-519, 001, NORTHERN NATURAL GAS COMPANY

CAC-11.

DOCKET# CP96-73, 001, SEAHAWK TRANSMISSION SYSTEM

CAC-12.

DOCKET# CP01-68, 001, INDIANA GAS COMPANY, INC.

CAC-13.

DOCKET# GP01-1, 000, SHELL DEEPWATER DEVELOPMENT, INC.

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 01-13496 Filed 5-24-01; 11:02 am]

BILLING CODE 6717-01-P